DEPARTMENT OF ENERGY

Federal Energy Regulatory Commission

[Docket No. RM07-10-000]

Transparency Provisions of Section 23 of the Natural Gas Act; Second Notice and Agenda for Form No. 552 Technical Conference

April 8, 2008.

The staff technical conference in the above-referenced proceeding is scheduled for April 22, 2008, at the Federal Energy Regulatory Commission, 888 First Street, NE., Washington, DC 20426, in the Commission Meeting Room (2-C) from 9:30 a.m. until 12:30 p.m. (EST).

As discussed in Order No. 704, Transparency Provisions of section 23 of the Natural Gas Act,¹ the conference will address issues associated with filing the Form No. 552. Order No. 704 requires certain natural gas buyers and sellers to identify themselves to the Commission and report summary information about their physical natural gas transactions for the previous calendar year in Form No. 552, established for that purpose. During the Technical Conference, Commission staff and conference participants will discuss, among other things, the following topics, with respect to Form No. 552:

¹ Transparency Provisions of Section 23 of the Natural Gas Act, Order No. 704, 73 Fed. Reg. 1014 (Jan. 4, 2008), FERC Stats. & Regs. ¶ 31,260 (2008).

1. Entities required to file the form;

2. Filing exclusions or exemptions;

3. Detail in reporting sales and purchases of natural gas;

4. Definitions of data elements; and

5. Publisher index point definitions and differences in reportable locations between publishers.

As stated in the March 6, 2008, Notice of Form No. 552, Technical Conference questions about the Form No. 552 were to be filed before March 31, 2008 under Docket No. RM07-10-000. Those filings are available at the Commission and may be viewed on the Commission's Web site at http://www.ferc.gov, using the “eLibrary” link. For assistance accessing documents on eLibrary, contact FERC Online Support at FERCOnlineSupport@ferc.gov or via phone at (866) 208-3676 (toll-free). For TTY, contact (202) 502-8659.

All interested persons are invited to attend in person or participate via teleconference for the Technical Conference, and there is no fee to register, participate via teleconference, or attend the conference. Those interested in participating by phone must register no later than April 18, 2008, on the FERC Web site at https://www.ferc.gov/whats-new/registration/form-552-04-22-form.asp. Those who will participate in person are encouraged, but not required, to register. Information for the conference call will be emailed to registered participants. For additional information, please contact Michelle Reaux of FERC's Office of Enforcement at (202) 502-6497 or by e-mail at michelle.reaux@ferc.gov.

Commission conferences and meetings are accessible under section 508 of the Rehabilitation Act of 1973. For accessibility accommodations please send an e-mail to accessibility@ferc.gov or call toll free (866) 208-3372 (voice) or 202-502-8659 (TTY), or send a fax to 202-208-2106 with the required accommodations.

Kimberly D. Bose,
Secretary.

[FR Doc. E8-7926 Filed 4-14-08; 8:45 am]

BILLING CODE 6717-01-P